DEPARTMENT OF ENERGY

Federal Energy Regulatory Commission

[Project No. 13327-000]

Glacier Fork Hydropower, LLC; Notice of Preliminary Permit Application Accepted for Filing and Soliciting Comments, Motions To Intervene, and Competing Applications

January 27, 2009.

On November 10, 2008, and supplemented on January 26, 2009, Glacier Fork Hydropower, LLC filed an application, pursuant to section 4(f) of the Federal Power Act, proposing to study the feasibility of the Glacier Fork Hydroelectric Project (Glacier Fork). Glacier Fork would be located on Glacier Fork of the Knik River, in the Borough of Matanuska-Susitna, Alaska.

The proposed Glacier Fork project would consist of: (1) A proposed 700-foot-long, 430-foot-high dam; (2) a proposed reservoir having a proposed surface area of 390 acres and a storage capacity of 75,000 acre-feet and normal water surface elevation of 980 feet above mean low sea level (msl); (3) a proposed 8,300-foot-long, 12-foot diameter steel penstock; (4) a proposed powerhouse containing three generating units having an installed capacity of 75-megawatts; (5) a proposed tailrace; (6) a proposed 25-mile-long, 115-kilovolt transmission line; and (7) appurtenant facilities. The proposed Glacier Fork Hydroelectric Project would have an average annual generation of 320-gigawatt-hours.

FERC Contact: Patricia W. Gillis, 202-502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13327) in the docket number field to access the document. For assistance, call toll-free 1-866-208-3372.

Kimberly D. Bose,
Secretary.

[FR Doc. E9-2215 Filed 2-2-09; 8:45 am]

BILLING CODE 6717-01-P